DEPARTMENT OF HEALTH AND HUMAN SERVICES

Centers for Medicare & Medicaid Services

[CMS Computer Match No. 2016-10: HHS Computer Match No. 1607]

Privacy Act of 1974; Effective Date—April 2, 2016; Expiration Date—October 2, 2017

AGENCY: Department of Health and Human Services (HHS), Centers for Medicare & Medicaid Services (CMS).

ACTION: Corrected Notice of Computer Matching Program (CMP).

SUMMARY: This notice is being republished in its entirety to correct the expiration date published in the heading of the notice at 81 FR, 8074, February 17, 2016. The expiration date should read October 2, 2017 instead of October 2, 2016. In accordance with the requirements of the Privacy Act of 1974, as amended, this notice announces the re-establishment of a CMP that CMS plans to conduct with the Department of Homeland Security (DHS), United States Citizenship and Immigration Services (USCIS).

DATES: Effective Dates: The matching program described in the matching notice published on February 17, 2016 became effective on April 2, 2016, based on that notice; this notice, correcting the expiration date of the matching program and republishing the full text of the matching notice, is effective upon publication. The effective date of the Computer Matching Agreement (CMA) is April 2, 2016. The following review periods elapsed prior to April 2, 2016: Thirty (30) days from the date CMS published the February 17, 2016 Notice of Computer Matching in the Federal Register; Thirty (30) days from the date the matching program report was transmitted to the Congressional committees of jurisdiction consistent with the provisions of 5 U.S.C. 552a (r), (o)(2)(A), and (o)(2)(B); and forty (40) days from the date the matching program report was sent to OMB, consistent with the provisions of 5 U.S.C. 552a (r) and OMB Circular A-130, Revised (Transmittal Memorandum No. 4), November 28, 2000, Appendix I, entitled “Federal Agency Responsibilities for Maintaining Records about Individuals” (A-130 Appendix I).

ADDRESSES: The public may send comments to: CMS Privacy Officer, Division of Security, Privacy Policy & Governance, Information Security & Privacy Group, Office of Enterprise Information, CMS, Room N1-24-08, 7500 Security Boulevard, Baltimore, Maryland 21244-1850. Comments received will be available for review at this location, by appointment, during regular business hours, Monday through Friday from 9:00 a.m.-3:00 p.m., Eastern Time zone.

FOR FURTHER INFORMATION CONTACT: Elizabeth Kane, Acting Director, Verifications Policy & Operations Division, Eligibility and Enrollment Policy and Operations Group, Center for Consumer Information and Insurance Oversight, CMS, 7501 Wisconsin Avenue, Bethesda, MD 20814, Office Phone: (301) 492-4418, Facsimile: (443) 380-5531, EMail: Elizabeth.Kane@cms.hhs.gov.

SUPPLEMENTARY INFORMATION: The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

This matching program meets the requirements of the Privacy Act of 1974, as amended.

Walter Stone,
CMS Privacy Act Officer, Centers for Medicare & Medicaid Services.

CMS Computer Match No. 2016-10

HHS Computer Match No. 1607

NAME:

“Computer Matching Agreement between the Centers for Medicare & Medicaid Services and the Department of Homeland Security, United States Citizenship and Immigration Services, for the Verification of United States Citizenship and Immigration Status Data for Eligibility Determinations”

SECURITY CLASSIFICATION:

Unclassified

PARTICIPATING AGENCIES:

Department of Health and Human Services (HHS), Centers for Medicare & Medicaid Services (CMS), and Department of Homeland Security (DHS), United States Citizenship and Immigration Services (USCIS)

AUTHORITY FOR CONDUCTING MATCHING PROGRAM:

Sections 1411 and 1413 of the Patient Protection and Affordable Care Act of 2010 (Pub. L. 111-148), as amended by the Health Care and Education Reconciliation Act of 2010 (Pub. L. 111-152) (collectively, the ACA) require the Secretary of HHS to establish a program for determining eligibility for certain state health subsidy programs, and certifications of Exemption; and authorize use of secure, electronic interfaces and an on-line system for the verification of eligibility.

PURPOSE(S) OF THE MATCHING PROGRAM:

The purpose of the Computer Matching Agreement is to re-establish the terms, conditions, safeguards, and procedures under which USCIS will provide records, information, or data to CMS under the ACA. CMS will access USCIS data needed to make eligibility determinations in its capacity as a Federally-facilitated Exchange, and state agencies that administer Medicaid, a Basic Health Program, or the Children's Health Insurance Program, and State-based Exchanges will receive the results of verifications using USCIS data accessed through CMS Data Services Hub to make eligibility determinations.

Data will be matched by CMS for the purpose for determining eligibility for enrollment in state health subsidy programs and eligibility determinations for exemptions. Specifically, USCIS will provide CMS with electronic access to immigrant, nonimmigrant, and naturalized or derived citizen status information contained within or accessed by the USCIS Verification Information System. Access to this information will assist CMS in determining whether an applicant is lawfully present, a qualified non-citizen, a naturalized or derived citizen, and whether the 5 year bar applies and has been met in order to determine eligibility for the previously mentioned programs.

DESCRIPTION OF RECORDS TO BE USED IN THE MATCHING PROGRAM:

The matching program will be conducted with data maintained by CMS in the Health Insurance Exchanges System (HIX), CMS System No. 09-70-0560, as amended, published at 78 FR 8538 (Feb. 6, 2013), 78 FR 32256 (May 29, 2013) and 78 FR 63211 (October 23, 2013).

The matching program will also be conducted with data maintained by DHS in the Systematic Alien Verification for Entitlements (SAVE) System of Records Notice (SAVE SORN): DHS/USCIS-004 Systematic Alien Verification for Entitlements Program System of Records Notice, 77 FR 47415 (August 8, 2012).

INCLUSIVE DATES OF THE MATCH:

The effective date of the CMA is April 2, 2016, provided that the following review periods have lapsed: Thirty (30) days from the date CMS publishes a Notice of Computer Matching in the Federal Register; Thirty (30) days from the date the matching program report is transmitted to the Congressional committees of jurisdiction consistent with the provisions of 5 U.S.C. 552a (r), (o)(2)(A), and (o)(2)(B); and forty (40) days from the date the matching program report is sent to OMB, consistent with the provisions of 5 U.S.C. 552a (r) and OMB Circular A-130, Revised (Transmittal Memorandum No. 4), November 28, 2000, Appendix I, entitled “Federal Agency Responsibilities for Maintaining Records about Individuals” (A-130 Appendix I). The matching program will continue for 18 months from the effective date and may be extended for an additional 12 months thereafter, if certain conditions are met.

[FR Doc. 2016-22567 Filed 9-19-16; 8:45 am]

BILLING CODE 4120-03-P